DEPARTMENT OF COMMERCE

National Oceanic and Atmospheric Administration

50 CFR Part 300

[Docket No. 010119023-1062-02; I.D. 121900A]

RIN 0648-AO80

Pacific Halibut Fisheries; Catch Sharing Plans; Correction

AGENCY: National Marine Fisheries Service (NMFS), National Oceanic and Atmospheric Administration (NOAA), Commerce.

ACTION: Final rule; annual management measures for Pacific halibut fisheries and approval of catch sharing plans; correction.

SUMMARY: This document corrects the final rule, published in the Federal Register on March 21, 2001, which contains annual management measures for Pacific halibut fisheries and an approval of catch sharing plans.

DATES: Effective March 15, 2001.

FOR FURTHER INFORMATION CONTACT: Yvonne deReynier, 206-526-6140.

SUPPLEMENTARY INFORMATION: A final rule was published in the Federal Register on March 21, 2001 (66 FR 15801), to publish annual management measures on behalf of the International Pacific Halibut Commission and to announce approval of modifications to the Catch Sharing Plan and implementing regulations for Area 2A. The final rule contains errors and omissions, which must be corrected.

Correction

In the final rule Pacific Halibut Fisheries; Catch Sharing Plans, published in 66 FR 15801, March 21, 2001, FR Doc 01-6889, the following corrections are made:

1. On page 15802, second column, in the fifth complete paragraph, on the second and third lines, the acronym “CRP” is corrected to read “CSP”.

2. On page 15810, first column, paragraph 23(4)(b)(v)(A)(2), the fourth sentence is correctly revised to read as follows:

“Dependent on the amount of unharvested catch available, the season reopening dates will be June 8 and/or 9, and June 15 and/or 16”.

3. On page 15810, second column, at paragraph 23(4)(b)(vi)(A)(2), the fourth sentence is correctly revised to read as follows:

“Dependant on the amount of unharvested catch available, the season reopening dates will be June 8 and/or 9, and June 15 and/or 16”.

Dated: April 3, 2001.
Clarence Pautzke,
Acting Deputy Assistant Administrator for Fisheries, National Marine Fisheries Service.

[FR Doc. 01-8658 Filed 4-6-01; 8:45 am]

BILLING CODE 3510-22-S